OFFICE OF THE UNITED STATES TRADE REPRESENTATIVE

[Docket Number USTR-2020-0032]

Request for Comments and Notice of Public Hearing Concerning Russia's Implementation of Its WTO Commitments

AGENCY: Office of the United States Trade Representative.

ACTION: Request for comments and notice of public hearing.

SUMMARY: The interagency Trade Policy Staff Committee (TPSC) will seek public comment to assist the Office of the United States Trade Representative (USTR) in the preparation of its annual report to Congress on Russia's implementation of its obligations as a Member of the World Trade Organization (WTO). Due to COVID-19, the TPSC will foster public participation via written submissions rather than an in-person hearing. This notice includes the schedule for submission of comments and responses to questions from the TPSC for the Russia WTO implementation report.

DATES:

September 21, 2020 (Monday) at 11:59 p.m. EDT: Deadline for submission of written comments on 2020 Russia WTO implementation report.

September 30, 2020 (Wednesday) at 11:59 p.m. EDT: Deadline for the TPSC to pose questions on written comments.

October 9, 2020 (Friday) at 11:59 p.m. EDT: Deadline for submission of responses to questions from the TPSC.

ADDRESSES: USTR strongly prefers electronic submissions made through the Federal eRulemaking Portal: http://www.regulations.gov (Regulations.gov). Follow the instructions for submitting comments in section III below. The docket number is USTR-2020-0032. For alternatives to online submissions, please contact Yvonne Jamison at Yvonne_D_Jamison@ustr.eop.gov or (202) 395-3475 before transmitting a comment and in advance of the relevant deadline.

FOR FURTHER INFORMATION CONTACT: For procedural questions concerning written comments, contact Yvonne Jamison at Yvonne_D_Jamison@ustr.eop.gov or (202) 395-3475. Direct all other questions to Betsy Hafner, Deputy Assistant U.S. Trade Representative for Russia and Eurasia at Elizabeth_Hafner@ustr.eop.gov or (202) 395-9124.

SUPPLEMENTARY INFORMATION:

I. Background

Russia became a Member of the WTO on August 22, 2012. On December 21, 2012, following the termination of the application of the Jackson-Vanik amendment to Russia and the extension of permanent normal trade relations to the products of Russia, the United States and Russia both filed letters with the WTO withdrawing their notices of non-application and consenting to have the WTO Agreement apply between them. In accordance with section 201(a) of the Russia and Moldova Jackson-Vanik Repeal and Sergei Magnitsky Rule of Law Accountability Act of 2012 (Pub. L. 112-208), USTR annually is required to submit a report to Congress on the extent to which Russia is implementing the WTO Agreement, including the Agreement on the Application of Sanitary and Phytosanitary Measures and the Agreement on Trade Related Aspects of Intellectual Property Rights. The Russia WTO implementation report also must assess Russia's progress on acceding to and implementing the Information Technology Agreement (ITA) and the Government Procurement Agreement (GPA). In addition, to the extent that USTR finds that Russia is not implementing fully any WTO agreement or is not making adequate progress in acceding to the ITA or the GPA, USTR must describe in the Russia WTO implementation report the actions it plans to take to encourage Russia to improve its implementation and/or increase its accession efforts. In accordance with section 201(a), and to assist it in preparing this year's report, the TPSC is soliciting public comments.

The terms of Russia's accession to the WTO are contained in the Marrakesh Agreement Establishing the World Trade Organization and the Protocol on the Accession of the Russian Federation to the WTO (including its annexes) (Protocol). The Report of the Working Party on the Accession of the Russian Federation (Working Party Report) provides detail and context to the commitments listed in the Protocol. You can find the Protocol and Working Party Report on USTR's website at https://ustr.gov/node/5887 or on the WTO website at http://docsonline.wto.org (document symbols: WT/ACC/RUS/70, WT/MIN(11)/2, WT/MIN(11)/24, WT/L/839, WT/ACC/RUS/70/Add.1, WT/MIN(11)/2/Add.1, WT/ACC/RUS/70/Add.2, and WT/MIN(11)/2/Add.1.)

II. Public Participation

Due to COVID-19, the TPSC will foster public participation via written submissions rather than an in-person hearing on Russia's implementation of its WTO commitments. USTR invites public comments on Russia's implementation according to the schedule set out in the Dates section above. Written comments should address Russia's implementation of the commitments made in connection with its accession to the WTO, including, but not limited to, commitments in the following areas:

a. Import regulation (e.g., tariffs, tariff-rate quotas, quotas, import licenses).

b. Export regulation.

c. Subsidies.

d. Standards and technical regulations.

e. Sanitary and phytosanitary measures.

f. Trade-related investment measures (including local content requirements).

g. Taxes and charges levied on imports and exports.

h. Other internal policies affecting trade.

i. Intellectual property rights (including intellectual property rights enforcement).

j. Services.

k. Government procurement.

l. Rule of law issues (e.g., transparency, judicial review, uniform administration of laws and regulations).

m. Other WTO commitments.

The TPSC will review comments and may ask clarifying questions to commenters. The TPSC will post the questions on the public docket, other than questions that include properly designated business confidential information (BCI). USTR will send questions that include properly designated BCI to the relevant commenters by email, and will not post these questions on the public docket. Replies to questions that contain BCI must follow the procedures in section IV below.

III. Requirements for Submissions

To ensure consideration, interested parties must submit comments and responses to TPSC questions electronically via Regulations.gov by the applicable deadlines in the Dates section above. The docket number is USTR-2020-0032. All submissions must be in English. USTR will not accept hand-delivered submissions.

To submit comments using Regulations.gov, enter docket number USTR-2020-0032 in the `search for field on the home page and click `search.' The site will provide a search-results page listing all documents associated with this docket. Find a reference to this notice by selecting `notice' under `document type' in the `filter results by' section on the left side of the screen and click on the link entitled `comment now.' Regulations.gov offers the option of providing comments by filling in a `type comment' field or by attaching a document using the `upload file(s)' field. USTR prefers that you provide submissions in an attached document and, in such cases, that you write `see attached in the `type' comment field, on the online submission form. In addition, USTR prefers submissions in Microsoft Word (.doc) or Adobe Acrobat (.pdf). If the submission is in an application other than those two, please indicate the name of the application in the `type comment' field. At the beginning of the submission, include the following text: (1) 2020 Russia WTO Implementation Report, (2) your organization's name, and (3) whether the document is a comment or an answer to a TPSC question. Written comments should not exceed 30 single-spaced, standard letter-size pages in 12-point type, including attachments. Include any data attachments to the submission in the same file as the submission itself, and not as separate files.

When you complete the submission procedure at Regulations.gov, you will receive a tracking number confirming successful transmission into Regulations.gov. For further information on using the www.regulations.gov website, please consult the resources provided on the website by clicking on `How to Use Regulations.gov' on the bottom of the home page. USTR is not able to provide technical assistance for Regulations.gov.

IV. Business Confidential (BCI) Submissions

A commenter requesting that USTR treat information contained in a submission as BCI must certify that the information is business confidential and they would not customarily release it to the public. You must clearly designate BCI by marking the submission “BUSINESS CONFIDENTIAL” at the top and bottom of the cover page and on each succeeding page, and indicating, via brackets, the specific information that is BCI. Additionally, you must include `business confidential' in the `type comment' field and add the designation BCI to the end of the file name for any attachments. For any submission containing BCI, you must separately submit a non-confidential version, i.e., not as part of the same submission with the BCI version, indicating where confidential information has been redacted. USTR will post the non-confidential version in the docket for public inspection.

V. Public Viewing of Review Submissions

USTR will post comments in the docket for public inspection, except business confidential information. You can view comments at Regulations.gov by entering docket number USTR-2020-0032 in the search field on the home page. General information concerning USTR is available at www.ustr.gov.

Edward Gresser,
Chair of the Trade Policy Staff Committee, Office of the United States Trade Representative.

[FR Doc. 2020-17662 Filed 8-12-20; 8:45 am]

BILLING CODE 3290-F0-P